DEPARTMENT OF STATE

[Public Notice 8777]

In the Matter of the Review and Amendment of the Designation of Lashkar-e-Tayyiba, aka LT, aka LeT, aka Lashkar-e-Toiba, aka Lashkar-i-Taiba, aka al Mansoorian, aka al Mansooreen, aka Army of the Pure, aka Army of the Righteous, aka Army of the Pure and Righteous, and Other Aliases, as a Foreign Terrorist Organization Pursuant to Section 219 of the Immigration and Nationality Act

Based upon a review of the Administrative Record assembled in this matter pursuant to Section 219(a)(4)(C) and (b) of the Immigration and Nationality Act, as amended (8 U.S.C. 1189(a)(4)(C), (b)) (“INA”), and in consultation with the Attorney General and the Secretary of the Treasury, the Secretary of State concludes that the circumstances that were the basis for the 2008 decision to maintain the designation of the aforementioned organization as a foreign terrorist organization have not changed in such a manner as to warrant revocation of the designation and that the national security of the United States does not warrant a revocation of the designation, and that there is a sufficient factual basis to find that Lashkar-e-Tayyiba, also known under the aliases listed above, uses or has used additional aliases, namely, Jama'at-ud-Dawa, Al-Anfal Trust, Tehrik-e-Hurmat-e-Rasool, and Tehrik-e-Tahafuz Qibla Awwal.

Therefore, the Secretary of State hereby determines that the designation of the aforementioned organization as a foreign terrorist organization, pursuant to Section 219 of the INA (8 U.S.C. 1189), shall be maintained. In addition, effective upon the date of publication in the Federal Register, the Secretary of State hereby amends the redesignation of Lashkar-e-Tayyiba as a foreign terrorist organization, pursuant to § 219(b) of the INA (8 U.S.C. 1189(b)), to include the following new alias and other possible transliterations thereof: Jama'at-ud-Dawa, Al-Anfal Trust, Tehrik-e-Hurmat-e-Rasool, Tehrik-e-Tahafuz Qibla Awwal.

Dated: June 13, 2014.
John F. Kerry,
Secretary of State.

[FR Doc. 2014-15011 Filed 6-25-14; 8:45 am]

BILLING CODE 4710-10-P